DEPARTMENT OF ENERGY

[Docket No. RP02-396-000]

Federal Energy Regulatory Commission Great Lakes Gas Transmission Limited Partnership; Notice of Proposed Changes in FERC Gas Tariff

August 1, 2002.

Take notice that on July 29, 2002, Great Lakes Gas Transmission Limited Partnership (Great Lakes) tendered for filing as part of its FERC Gas Tariff Second Revised Volume No. 1 the following tariff sheets, proposed to be effective October 1, 2002:

Eleventh Revised Sheet No. 1

Seventh Revised Sheet No. 10A

Fifth Revised Sheet No. 11

Fourth Revised Sheet No. 39

Eighth Revised Sheet No. 41

Sixth Revised Sheet No. 42

Sixth Revised Sheet No. 42A

Eighth Revised Sheet No. 50C

Second Revised Sheet No. 50N

Great Lakes states that these tariff sheets are being filed to comply with the Commission's Order No. 587-O issued on May 1, 2002, in Docket No. RM96-1-020, 99 FERC 61,146 (2002). In Order No. 587-O, the Commission adopted Version 1.5 of the standards promulgated by the Wholesale Gas Quadrant of the North American Energy Standards Board, formerly the Gas Industry Standards Board (GISB), to be effective October 1, 2002.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19937 Filed 8-6-02; 8:45 am]

BILLING CODE 6717-01-P